Title 3—

The President

Proclamation 8127 of April 19, 2007

Small Business Week, 2007

By the President of the United States of America

A Proclamation

During Small Business Week, we honor small business owners and workers for their important role in ensuring that America remains the economic leader of the world. Every day, our Nation's small businesses help enhance the lives of our citizens and lead the way in an economy distinguished by low unemployment, sustained job creation, and one of the fastest growth rates of any major industrialized nation.

To help extend our Nation's prosperity, my Administration is committed to continuing the pro-growth economic policies that encourage enterprise and make America the best place in the world to do business. Our economy has created more than 7 million new jobs since major tax relief was enacted in 2003, and we are working to keep taxes low to help small businesses continue to expand. We are taking steps to make health care more affordable and available for small business owners and employees by encouraging Health Savings Accounts, supporting Association Health Plans legislation, and proposing a standard tax deduction for health insurance. My Administration is also committed to ensuring that small businesses can compete in the global economy.

By continuing to expand trade, we can open new markets for American products, lower prices for consumers, and create better American jobs.

Small businesses are the lifeblood of cities and towns across the country, and we salute small business owners, entrepreneurs, and employees for enhancing our communities and expanding opportunities for all. The hard work and ingenuity of our Nation's small business men and women are helping to sustain America's economic strength.

NOW, THEREFORE, I, GEORGE W. BUSH, President of the United States of America, by virtue of the authority vested in me by the Constitution and laws of the United States, do hereby proclaim April 22 through April 28, 2007, as Small Business Week. I call upon the people of the United States to observe this week with appropriate ceremonies, activities, and programs that celebrate the accomplishments of small business owners and their employees and encourage the development of new small businesses.

IN WITNESS WHEREOF, I have hereunto set my hand this nineteenth day of April, in the year of our Lord two thousand seven, and of the Independence of the United States of America the two hundred and thirty-first.

[FR Doc. 07-2057

Filed 4-23-07; 9:29 am]

Billing code 3195-01-P